NEIGHBORHOOD REINVESTMENT CORPORATION

Regular Board of Directors Meeting

Time and Date: 2 p.m. Wednesday, December 3, 2003.

Place: Federal Deposit Insurance Corporation, 550 17th Street, NW., Room 6221, Sixth Floor, Washington, DC 20429.

Status: Open/Closed.

FOR FURTHER INFORMATION CONTACT: Jeffrey T. Bryson, General Counsel/Secretary, (202) 220-2372; jbryson@nw.org.

Agenda:

I. Call to Order

II. Approval of Minutes: September 5, 2003—Regular Meeting

III. Audit Committee Meeting—10/28/03

IV. Treasurer's Report

V. Executive Directors Quarterly Management Report

a. NeighborWorks Center for Homeownership Presentation

b. NeighborWorks Visibility Goals and Strategies

VI. Executive Session—(Closed)

a. Personnel Committee Meeting—9/24/03

b. Personnel Committee Meeting—11/5/03

c. Update on Executive Director's Search

VII. Adjournment

Jeffrey T. Bryson,
General Counsel/Secretary.

[FR Doc. 03-29816 Filed 11-25-03; 11:55 am]

BILLING CODE 7570-01-M